DEPARTMENT OF JUSTICE

Notice of Lodging of Proposed Stipulation and Amendment to Consent Decree Under the Comprehensive Environmental Response, Compensation, and Liability Act

On January 16, 2025, the Department of Justice lodged a proposed Stipulation and Order Amending the Consent Decree and Modifying Exhibit A with the United States District Court for the Southern District of Indiana in the lawsuit entitled United States and State of Indiana v. Environmental Conservation and Chemical Corporation, et al., Civil Action No. 83-1419-C-M/S.

The publication of this notice opens a period for public comment on a Proposed Stipulation and Order Amending Consent Decree. The Proposed Stipulation and Order Amending the Consent Decree memorialize and make enforceable updated requirements for ongoing remedial work at the Environmental Conservation and Chemical Corporation Superfund Site near Zionsville, Indiana. The remedial work is being undertaken pursuant to a 1991 Consent Decree between the United States, State of Indiana, and numerous settling defendants pursuant to the Comprehensive Environmental Response, Compensation, and Liability Act (“CERCLA”), 42 U.S.C. 9601, et seq. Comments should be addressed to the Assistant Attorney General, Environment and Natural Resources Division, and should refer to United States and State of Indiana v. Environmental Conservation and Chemical Corporation, et al., D.J. Ref. No. #90-11-2-48. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

Any comments submitted in writing may be filed by the United States in whole or in part on the public court docket without notice to the commenter.

During the public comment period, the Proposed Stipulation and Order Amending Consent Decree may be examined and downloaded at this Justice Department website: https://www.justice.gov/enrd/consent-decrees. If you require assistance accessing the Proposed Stipulation and Order Amending Consent Decree, you may request assistance by email or by mail to the addresses provided above for submitting comments.

Laura Thoms,
Assistant Section Chief, Environmental Enforcement Section, Environment and Natural Resources Division.

[FR Doc. 2025-01729 Filed 1-24-25; 8:45 am]

BILLING CODE 4410-15-P